DEPARTMENT OF COMMERCE

National Oceanic and Atmospheric Administration

National Marine Protected Areas Center West Coast Region Public Dialogue Meetings

AGENCY: National Ocean Service, NOAA, Department of Commerce.

ACTION: Notice of public meetings.

SUMMARY: Notice is hereby given of two (2) West Coast Region Public Dialogue meetings concerning the development of the national system of marine protected areas (MPAs) pursuant to Executive Order 13158 (May 26, 2000). The State of California Public Dialogue will be held December 12, 2005, 6:30-9 p.m. in San Francisco, California. The State of Washington Public Dialogue will be held December 13, 2005, 6:30-9 p.m. in Seattle, Washington. These are the fourth and fifth in a series of regional dialogues being held around the United States to solicit input from the public concerning their views on a national system of MPAs. Additional meetings will be announced and scheduled pending available resources. Refer to the web page listed below for background information concerning the development of the national system of MPAs. Meeting room capacity for each of these meetings is limited to 75 people, and as such interested participants are required to RSVP via the e-mail address (preferable), fax number, or phone number listed below, by no later than 5 p.m. p.s.t. on November 28, 2005. In the RSVP, please indicate which Public Dialogue meeting, either California or Seattle, you plan to attend. Attendance will be available to the first 75 people who responded for each meeting.

Those who cannot attend due to space, schedule, or other limitations can find background materials at the web page listed below and may submit written comments to the e-mail, fax, or mailing address below. A written summary of the meeting and any other comments received will be posted on the web site within one month of its occurrence.

DATES: The State of California Public Dialogue meeting will be held Monday, December 12, 2005, from 6:30 p.m. to 9 p.m. p.s.t. The State of Washington Public Dialogue meeting will be held Tuesday, December 13, 2005, from 6:30 p.m. to 9 p.m. p.s.t.

ADDRESSES: The State of California Public Dialogue meeting will be held at The Presidio of San Francisco, Log Cabin, 1299 Storey Avenue, San Francisco, California 94129. The State of Washington Public Dialogue meeting will be held at The Center for Wooden Boats, 1010 Valley Street, Seattle, Washington 98109.

FOR FURTHER INFORMATION CONTACT: Jonathan Kelsey, National System Development Coordinator, National Marine Protected Areas Center, 1305 East-West Highway, Silver Spring, Maryland, 20910. (Phone: 301-713-3155 ext. 130, Fax: 301-713-3110); e-mail: mpa.comments@noaa.gov; or visit the National MPA Center Web site at http://mpa.gov/national_system/).

SUPPLEMENTARY INFORMATION: These Public Dialogue meetings are intended to solicit the public's views regarding the development of a national system of MPAs. All input received via these dialogues, e-mail, or fax will be for the public record and considered in developing a draft proposal for a national system of MPAs. At this preliminary stage in the effort to develop the national system, NOAA does not intend to respond to any comments received via these dialogues, e-mail, fax, or mail. Once a draft proposal is developed for the national system of MPAs, NOAA will publish it in the Federal Register for formal public comment and will subsequently provide a formal response to comments received.

Matters to be Considered: Executive Order 13158 (May 26, 2000) calls for the development of a national system of MPAs. These Public Dialogue meetings are intended to solicit the public's views concerning the development of a national system of MPAs. Refer to the web page listed above for background information concerning these dialogues and the development of the national system of MPAs.

Dated: October 26, 2005.
Eldon Hout,
Director, Office of Ocean and Coastal Resource Management.

[FR Doc. 05-21811 Filed 11-1-05; 8:45 am]

BILLING CODE 3510-08-M